NUCLEAR REGULATORY COMMISSION

[NRC-2017-0001]

Sunshine Act Meeting Notice

DATE: Weeks of July 24, 31, August 7, 14, 21, 28, 2017.

PLACE: Commissioners' Conference Room, 11555 Rockville Pike, Rockville, Maryland.

STATUS: Public and Closed.

Week of July 24, 2017

There are no meetings scheduled for the week of July 24, 2017.

Week of July 31, 2017—Tentative

There are no meetings scheduled for the week of July 31, 2017.

Week of August 7, 2017—Tentative

There are no meetings scheduled for the week of August 7, 2017.

Week of August 14, 2017—Tentative

There are no meetings scheduled for the week of August 14, 2017.

Week of August 21, 2017—Tentative

There are no meetings scheduled for the week of August 21, 2017.

Week of August 28, 2017—Tentative

There are no meetings scheduled for the week of August 28, 2017.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: July 21, 2017.
Denise L. McGovern,
Policy Coordinator, Office of the Secretary.

[FR Doc. 2017-15776 Filed 7-24-17; 11:15 am]

BILLING CODE 7590-01-P